DEPARTMENT OF TRANSPORTATION

Federal Highway Administration

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is May 13, 2024. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 416-2358; email: Patrick.Lee@txdot.gov. TxDOT's normal business hours are 8 a.m.-5 p.m. (central time), Monday through Friday.

SUPPLEMENTARY INFORMATION: The environmental review, consultation, and other actions required by applicable Federal environmental laws for these projects are being, or have been, carried out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377] (section 404, section 401, section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 12898 Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. US 79 at Little Brazos River, Robertson County, Texas. The project will replace and widen the existing US 79 bridge and approaches over the Little Brazos River. Additional roadway improvements include reconstruction of the base and roadway ditch grading, structure widening, and drainage restoration and improvements. The project is 1.441 miles long on US 79 southwest of Hearne, TX. Starting at the northeast limits of the project, an existing culvert will be reconstructed, and an existing concrete-lined drainage channel will be reconstructed. This work will extend an additional 0.48 mile and will include driveway construction over the proposed ditch. Additional work on FM 50 where it intersects with US 79 will be 0.12 mile long. The actions by TxDOT and Federal agencies and the laws under which such actions were taken are described in the Categorical Exclusion Determination issued on September 5, 2023, and other documents in the TxDOT project file. The Categorical Exclusion Determination and other documents in the TxDOT project file are available by contacting the TxDOT Bryan District Office at 2591 North Earl Rudder Freeway, Bryan, Texas 77803; telephone: (979) 778-2165.

2. SH 178 from the Texas/New Mexico state line to the SH 178/I-10 interchange, El Paso County, Texas. The project will include four direct connectors at the interchange of I-10 and SH 178. Between I-10 and SH 20 (Doniphan Drive) improvements include access control measures, reconstruction, and extension of existing frontage roads in both directions. The project will also include grade-separated interchanges along SH 178 at Upper Valley Road and Westside Drive, with four elevated lanes constructed over these intersections, and entrance and exit ramps connecting with two-lane access roads. The total project length is approximately three miles. The actions by TxDOT and Federal agencies and the laws under which such actions were taken are described in the Categorical Exclusion Determination issued on October 3, 2023, and other documents in the TxDOT project file. The Categorical Exclusion Determination and other documents in the TxDOT project file are available by contacting the TxDOT El Paso District Office at 13301 Gateway West, El Paso, TX 79928; telephone: (915) 790-4341.

3. SH 6 at the BNSF railroad, Brazoria County, Texas. The project will reconstruct the pump station and install a new stormwater detention on SH 6 at the BNSF railroad near Avenue C/Perry Lane. The actions by TxDOT and Federal agencies and the laws under which such actions were taken are described in the Categorical Exclusion Determination issued on October 5, 2023, and other documents in the TxDOT project file. The Categorical Exclusion Determination and other documents in the TxDOT project file are available by contacting the TxDOT Houston District Office at 7600 Washington Avenue, Houston, TX 77007; telephone: (713) 802-5000.

4. US 183 from RM 1431 to Avery Ranch Boulevard, Williamson County, Texas. The improvements include the construction of two to four continuous northbound and southbound general purpose lanes adjacent to the 183A tollway, as well as a shared-use path on the northbound side of the roadway. Exit and entrance ramps would also be reconstructed to connect the existing 183A toll facility to the general purpose lanes. No improvements are proposed on the adjacent 183A tollway. The project is approximately 2.83 miles in length. The actions by TxDOT and Federal agencies and the laws under which such actions were taken are described in the Categorical Exclusion Determination issued on October 9, 2023, and other documents in the TxDOT project file. The Categorical Exclusion Determination and other documents in the TxDOT project file are available by contacting the TxDOT Austin District Office at 7901 North I-35, Austin, TX 78753; telephone: (512) 832-7000.

5. Wheatland Road From Dallas/Lancaster County Line to University Hills Boulevard, Dallas County, Texas. The proposed roadway will be a new location undivided roadway realigning Wheatland Road. The project will accommodate four 12-foot-wide travel lanes (two in each direction), with dedicated 5-foot-wide bike lanes and 5-foot-wide sidewalks along both sides of the roadway within an 80-foot-wide right-of-way to match the previous improved section of Wheatland Rd east of the proposed project. The realigned Killough Blvd. would include one 12-foot lane in either direction and a dedicated right-turn lane toward Wheatland Road. The project is approximately 0.579 mile in length. The actions by TxDOT and Federal agencies and the laws under which such actions were taken are described in the Categorical Exclusion Determination issued on October 23, 2023, and other documents in the TxDOT project file. The Categorical Exclusion Determination and other documents in the TxDOT project file are available by contacting the TxDOT Dallas District Office at 4777 E Highway 80, Mesquite, TX 75150; telephone: (214) 320-4480.

6. State Loop (SL) 335 realignment at SH 136 intersection in Potter County, Texas. The project will extend along SL 335 from approximately 0.58 mile south of the SH 136 intersection to approximately 0.365 mile north of the intersection, for a total project length of approximately 0.94 mile. Entrance and exit ramps on SL 335 north of SH 136 will be reconfigured to eliminate the jug handles so that the frontage roads tie straight into SH 136. Eastbound SH 136 west of the intersection will add a 12-foot-wide right turn lane for traffic turning south onto southbound SL 335. New frontage roads for SL 335 northbound and southbound traffic south of SH 136 will be constructed adjacent to the SL 335 main lanes. The areas north of SH 136 where jug handles will be removed will be shaped and reseeded. Lakeside Drive north of SH 136 will no longer be connected to the SL 335 roadway. The actions by TxDOT and Federal agencies and the laws under which such actions were taken are described in the Categorical Exclusion Determination issued on October 27, 2023, and other documents in the TxDOT project file. The Categorical Exclusion Determination and other documents in the TxDOT project file are available by contacting the TxDOT Amarillo District Office at 5715 Canyon Drive, Amarillo, TX 79110; telephone: (806) 356-3200.

7. FM 428 from Dallas Parkway to SH 289/Preston Road, Collin County, Texas. The project will include the realignment and widening of the roadway within the project limits. Improvements will consist of four 12-foot-wide lanes (ultimate six) with an 18-foot-wide raised median, and 10-foot-wide sidewalks along both sides of the road. The project will include a bridge over Doe Branch and an overpass over the BNSF tracks. The project is approximately 1.8 miles in length. The actions by TxDOT and Federal agencies and the laws under which such actions were taken are described in, the Categorical Exclusion Determination issued on November 10, 2023, and other documents in the TxDOT project file. The Categorical Exclusion Determination and other documents in the TxDOT project file are available by contacting the TxDOT Dallas District Office at 4777 E Highway 80, Mesquite, TX 75150; telephone: (214) 320-4480.

8. Hachar-Reuthinger Road, from FM 1472 to I-35 Southbound Frontage Road, Webb County, Texas. The proposed Hachar-Reuthinger Road will provide a new roadway on new location for approximately 8.4 miles from FM 1472 (aka Mines Road) northbound lane east to the southbound (western) frontage road of I-35 approximately two miles north of the I-35/Beltway Parkway/Uniroyal Drive overpass. The proposed roadway will consist of a four-lane divided facility with two lanes of travel in each direction. The proposed roads will consist of two 12-foot-wide travel lanes with four-foot-wide inside shoulders and 10-foot-wide outside shoulders. Intersections with turnarounds will be constructed at the intersection of the future Beltway Parkway and at two additional locations based upon the City of Laredo Thoroughfare Plan. These two currently unidentified intersections will be located approximately 2.4 miles east of Mines Road/FM 1472 intersection, and approximately 1.5 mile northeast of the Hachar Road/Beltway Parkway. A westbound turnaround will be constructed approximately 0.16 mile east of the FM 1472/Hachar-Reuthinger Road intersection. The actions by TxDOT and Federal agencies and the laws under which such actions were taken are described in the Final Environmental Assessment (EA), the Finding of No Significant Impact (FONSI) issued on September 20, 2023, and other documents in the TxDOT project file. The EA, FONSI, and other documents in the TxDOT project file are available by contacting the TxDOT Laredo District Office at 1817 Bob Bullock Loop, Laredo, TX 78043; telephone: (956) 712-7402.

9. FM 517 from SH 35 to I-45 in Brazoria and Galveston Counties, Texas. The project will make improvements along 9.8 miles of FM 517. Between SH 35 and FM 646 the improvements will include widening the existing facility to four lanes with two 12-foot-wide travel lanes in each direction. Between FM 646 and I-45, the improvements will add an 18-foot-wide raised median with turn lanes. The facility will also have 14-foot-wide shoulders and 10-foot-wide shared use paths on both sides of the roadway. No sidewalks are proposed between FM 646 and I-45. The roadway will be converted to curb and gutter system with open vegetated ditches. There are no detention ponds proposed. The actions by TxDOT and Federal agencies and the laws under which such actions were taken are described in the Final Environmental Assessment (EA), the Finding of No Significant Impact (FONSI) issued on October 30, 2023, and other documents in the TxDOT project file. The EA, FONSI and, other documents in the TxDOT project file are available by contacting the TxDOT Houston District Office at 7600 Washington Avenue, Houston, TX 77007; telephone: (713) 802-5000.

Authority: 23 U.S.C. 139(l)(1).

Michael T. Leary,
Director, Planning and Program Development, Federal Highway Administration.

[FR Doc. 2023-27546 Filed 12-14-23; 8:45 am]

BILLING CODE 4910-22-P